NATIONAL FOUNDATION FOR THE ARTS AND THE HUMANITIES

National Endowment for the Arts; National Council on the Arts 145th Meeting

Pursuant to section 10(a)(2) of the Federal Advisory Committee Act (Pub. L. 92-463), as amended, notice is hereby given that a meeting of the National Council on the Arts will be held on March 8, 2002, from 9:00 a.m. to 11:45 a.m. in Room M-09 at the Nancy Hanks Center, 1100 Pennsylvania Avenue, NW, Washington, DC 20506.

This meeting will be open to the public on a space available basis. Following opening remarks and announcements, there will be a tribute to Chairman Michael Hammond featuring cellist Norman Fischer of the Concord Quartet from Rice University. This will be followed by Congressional and budget updates. Other topics will include: Application Review for Access, Arts Learning, Heritage/Preservation, Challenge America, Partnership Agreements, Leadership Initiatives and Policy Research & Analysis; review of Guidelines for Arts Learning, Arts on Radio & Television, American Jazz Masters Fellowships, Folk Arts Infrastructure Initiative, National Heritage Fellowships, Partnership Agreements, and Resources for Change: Technology; and general discussion.

If, in the course of the open session discussion, it becomes necessary for the Council to discuss non-public commercial or financial information of intrinsic value, the Council will go into closed session pursuant to subsection (c)(4) of the Government in the Sunshine Act, 5 U.S.C. 552b. Additionally, discussion concerning purely personal information about individuals, submitted with grant applications, such as personal biographical and salary data or medical information, may be conducted by the Council in closed session in accordance with subsection (c)(6) of 5 U.S.C. 552b.

Any interested persons may attend, as observers, Council discussions and reviews that are open to the public. If you need special accommodations due to a disability, please contact the Office of AccessAbility, National Endowment for the Arts, 1100 Pennsylvania Avenue, NW, Washington, DC 20506, 202/682-5532, TTY-TDD 202/682-5429, at least seven (7) days prior to the meeting.

Further information with reference to this meeting can be obtained from the Office of Communications, National Endowment for the Arts, Washington, DC 20506, at 202/682-5570.

Dated: February 20, 2002.
Kathy Plowitz-Worden,
Panel Coordinator, Office of Guidelines, Panel & Council Operations.

[FR Doc. 02-4473 Filed 2-25-02; 8:45 am]

BILLING CODE 7537-01-P